DEPARTMENT OF TRANSPORTATION

Federal Motor Carrier Safety Administration

49 CFR Parts 365, 374, 387, 391, 393, and 396

Motor Carrier Safety Regulations; Miscellaneous Technical Amendments

AGENCY: Federal Motor Carrier Safety Administration (FMCSA), DOT.

ACTION: Final rule; miscellaneous technical amendments.

SUMMARY: This rule makes technical amendments to the Federal Motor Carrier Safety Regulations (FMCSRs). These technical amendments were needed to correct inadvertent errors and omissions, update mailing addresses, remove obsolete references, and make minor editorial changes to improve clarity and consistency. No substantive changes have been made to the FMCSRs. The corrections are minor and will not have a significant impact on a substantial number of small entities.

DATE: The technical amendments in this final rule are effective September 30, 2003.

FOR FURTHER INFORMATION CONTACT: Ms. Janet Nunn, Office of Policy Plans and Regulations (MC-PRR), U.S. Department of Transportation, FMCSA, 400 Seventh Street, SW., Washington, DC 20590-0001. Telephone (202) 366-2797, or e-mail janet.nunn@fmcsa.dot.gov.

SUPPLEMENTARY INFORMATION:

Availability of Final Rule Technical Amendments

You can view, print, and download an electronic copy of this document in PDF or HTML formats through FMCSA's Web site: http://www.fmcsa.dot.gov/rulesregs, or the Federal Register's Web site at http://www.gpoaccess.gov.

Summary of Technical Amendments

FMCSA has made the following technical corrections to the Federal Motor Carrier Safety Regulations (FMCSRs) contained in Title 49 of the Code of Federal Regulations (CFR), chapter III, subchapter B.

Section 365.405(a): “Federal Motor Carrier Safety Administration, Licensing Division” is corrected to read “FMCSA, Licensing Team;” “Regional Director for the Region(s)” is corrected to read “Field Administrator for the Service Center(s);” and “1002.2(f)(25)” is corrected to read “360.3(f)(8).” Section 365.411(b), “Division” is corrected to read “Team.” Section 365.413(b), “Office of Data Analysis and Information Systems” is corrected to read “Licensing Team.” Section 365.505(b)(3), “unbvtil” is corrected to read “until.”

Section 374.303(a), “carriers” is corrected to read “carrier.”

Section 387.303, paragraph (b)(2) table, column 1, paragraph (d), “10,000” is corrected to read “10,001” to be consistent with other sections in the table. In § 387.309, “B.M.C.” is corrected to read “BMC.” In § 387.311(b), “B.M.C. 83” and “B.M.C. 34” are corrected to read “BMC 83” and “BMC 34.”

In § 391.43(f), the date on which existing physical examination forms may no longer be used “November 6, 2001” has been updated. In the “Instructions For Performing and Recording Physical Examinations” and the “Medical Examination Report for Commercial Driver Fitness Determination,” both codified after § 391.43(f), the information on blood pressure has been revised to incorporate the recommendations on hypertension included in a report prepared for FMCSA, entitled Cardiovascular Advisory Panel Guidelines for the Medical Examination of Commercial Motor Vehicle Drivers (October 2002). The report, which has been posted on the FMCSA website for several months, represents the current medical consensus and state of the art in evaluating and treating hypertension.

In § 393.5, definition of “g,” the figure “9.823” is corrected to read “9.81.” In § 393.106(a), the reference to “§ 393.122 through § 393.142” is corrected to read §§ 393.116 through 393.136.”

Section 396.9, paragraphs (b) and (c)(2), the report form “Driver Equipment and Compliance Check” has been renamed the “Driver Vehicle Examination Report” to conform with industry terminology and for uniformity in reporting.

Regulatory Analyses and Notices

Administrative Procedure Act (APA)

The APA provides exceptions to its notice and public comment procedures when an agency finds there is good cause for dispensing with such procedures on the basis that they are “impracticable, unnecessary, or contrary to the public interest.” See 5 U.S.C. 553(b). FMCSA has determined that notice and comment on these amendments are unnecessary.

The amendments to Part 365 involve four changes to the names of FMCSA offices; one change to replace an obsolete CFR citation which was recodified after the Interstate Commerce Commission's remaining functions were transferred to DOT; and one spelling correction. Because these changes make ministerial corrections or update references, but do not impose added burdens or alter any rights or obligations, the agency has determined that notice and comment are unnecessary.

The definition of “Carrier” in § 374.303(a) now reads: “a motor passenger common carriers.” The plural “carriers” is changed to the singular “carrier” to match the term being defined. This has no effect on the underlying rule, and FMCSA has determined that notice and comment are therefore unnecessary.

In part 387, three references to “B.M.C.,” meaning Bureau of Motor Carriers, are changed to “BMC,” the current preferred abbreviation of that term. The underlying rule is unchanged, and the agency has determined that notice and comment are unnecessary.

In § 391.43(f), the date after which existing physical examination forms could no longer be used (November 6, 2001) has been extended to September 2004. This is being done because it came to the agency's attention that stocks of the previous forms still exist. Allowing their continued use will save the expense of discarding these forms and buying new ones. The medical examination itself is the same, whatever the form used to record the results. FMCSA has therefore determined that notice and comment are not required.

In the “Instructions For Performing and Recording Physical Examinations” and the “Medical Examination Report for Commercial Driver Fitness Determination,” both codified after § 391.43(f), the information on blood pressure has been revised to incorporate the recommendations on hypertension included in a report prepared for FMCSA, entitled Cardiovascular Advisory Panel Guidelines for the Medical Examination of Commercial Motor Vehicle Drivers (October 2002). The report, which has been posted on the FMCSA website for several months, represents the current medical consensus and state of the art in evaluating and treating hypertension. FMCSA has determined that notice and comment on these changes are unnecessary, because both the “Instructions” for dealing with high blood pressure and the corresponding “Guidelines” printed on the exam form are simply recommendations to the medical examiner. They represent the agency's summary of current medical thinking, but are neither part of the medical standard for blood pressure [see § 391.41(b)(6)] nor binding on the medical examiner.

In Part 393.5, the definition of “g,” the symbol for the acceleration of gravity, is corrected from 9.823 meters per second squared to 9.81 meters per second squared. FMCSA finds that notice and comment are unnecessary to correct this error. The reference in § 393.106(a) to “the commodity-specific rules of § 393.122 through § 393.142” is erroneous because it refers to section numbers used in a previous draft of Subpart I (Protection Against Shifting and Falling Cargo). The final rule codified the commodity-specific regulations at § 393.116 through § 393.136, and § 393.106(a) is therefore changed accordingly. Because this amendment clarifies a cross-reference but does not change any regulatory requirement, FMCSA finds that notice and comment are unnecessary.

In § 396.9(b) and (c)(2), the inspection report entitled “Driver Equipment Compliance Check” has been renamed the “Driver Vehicle Examination Report.” Because the substance of the inspection report has not been changed, FMCSA has determined that notice and comment are unnecessary.

These technical amendments have no significant impact on a substantial number of small entities. The amendments merely correct inadvertent errors and omissions, update mailing addresses, remove obsolete references, and make minor editorial changes to improve clarity and consistency. They do not impose new requirements. As explained above, FMCSA has determined that prior notice and opportunity for comment on these changes are unnecessary. For the same reasons, the agency finds good cause under 5 U.S.C. 553(d)(3) to make these amendments effective upon publication.

Executive Order 12866 and DOT Regulatory Policies and Procedures

FMCSA does not consider this rule to be a “significant regulatory action” under Executive Order 12866, Regulatory Planning and Review, or within the meaning of DOT regulatory policies and procedures. Therefore, it does not require review by the Office of Management and Budget.

Regulatory Flexibility Act of 1980 (RFA)

FMCSA has reviewed the technical amendments rule, and certifies that this rule will not have a significant economic impact on a substantial number of small entities.

Unfunded Mandates Reform Act

This rule will not result in the expenditure by State, local and tribal governments, in the aggregate, or by the private sector, of $100 million or more in any year and it will not significantly or uniquely affect small governments. Therefore, no actions were deemed necessary under the provisions of the Unfunded Mandates Reform Act of 1995.

Federalism

This rule will not have substantial direct effects on the States, on the relationship between the national government and the States, or on the distribution of power and responsibilities among the various levels of government. Therefore, in accordance with Executive Order 13132, we have determined that this rule does not have federalism implications.

Taking of Private Property

This rule will not affect a taking of private property or otherwise have taking implications under Executive Order 12630, Governmental Actions and Interference with Constitutionally Protected Property Rights.

Civil Justice Reform

This rule meets applicable standards in section 3 of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Intergovernmental Review

Catalog of Federal Domestic Assistance Program Number 20.217, Motor Carrier Safety. The regulations implementing Executive order 12372 regarding intergovernmental consultation on Federal programs and activities do not apply to this action.

Information Collection

This rule contains no new collection of information under the Paperwork Reduction Act of 1995 (44 U.S.C. 3501-3520).

Environment

We have analyzed this action for purposes of the National Environmental Policy Act (NEPA) and have determined that this action does not have any effect on the quality of the environment.

Energy Impact

We have determined that this rule is not a major regulatory action under the provisions of the Energy Policy and Conservation Act (EPCA).

Small Business Regulatory Enforcement Fairness Act of 1996 (SBREFA)

This final rule is not a major rule as defined by section 804 of SBREFA. This rule will not result in annual effect on the economy of $100 million or more; a major increase in costs or prices; or significant adverse effects on competition, employment, investment, productivity, or innovation. This rule is also exempt from congressional review under 5 U.S.C. 801 et seq., as added by SBREFA, since it involves ministerial technical corrections to existing regulations.

List of Subjects

49 CFR Part 365

Administrative practice and procedure, Brokers, Buses, Freight forwarders, Motor carriers, Moving of household goods.

49 CFR Part 374

Aged, Blind, Buses, Civil rights, Freight, Individuals with disabilities, Motor Carriers, Smoking.

49 CFR Part 387

Buses, Freight, Freight forwarders, Hazardous materials transportation, Highway safety, Insurance, Intergovernmental relations, Motor carriers, Motor vehicle safety, Moving of household goods, Penalties, Reporting and recordkeeping requirements, Surety bonds.

49 CFR Part 391

Alcohol abuse, Drug abuse, Drug testing, Highway safety, Motor carriers, Reporting and recordkeeping requirements, Safety, Transportation

49 CFR Part 393

Highway safety, Motor carriers, Motor vehicle safety.

49 CFR Part 396

Highway safety, Motor carriers, Motor vehicle safety, Reporting and recordkeeping requirements.

For the reasons stated in the preamble, FMCSA amends 49 CFR chapter III, subchapter B, as set forth below.

PART 365—RULES GOVERNING APPLICATIONS FOR OPERATING AUTHORITY

1. The authority citation for part 365 continues to read as follows:

Authority: 5 U.S.C. 553 and 559; 16 U.S.C. 1456; 49 U.S.C. 13101, 13301, 13901-13906, 14708, 31138, and 31144; 49 CFR 1.73.

§ 365.405 [Amended]

2. Amend § 365.405(a)(1) by removing “Federal Motor Carrier Safety Administration, Licensing Division” and add, in its place, “FMCSA, Licensing Team;”

§ 365.411 [Amended]

3. Amend § 365.411(b) by removing “Division” and add, in its place, “Team.”

§ 365.413 [Amended]

4. Amend § 365.413(b) by removing “Office of Data Analysis and Information” and add, in its place, “Licensing Team.”

§ 365.505 [Amended]

5. Amend § 365.505(b)(3) by removing “unbvtil” and add, in its place, “until.”

PART 374—PASSENGER CARRIER REGULATIONS

6. The authority citation for part 374 continues to read as follows:

Authority: 49 U.S.C. 13301 and 14101; 49 CFR 1.73.

§ 374.303 [Amended]

7. Amend § 374.303(a) by removing the word “carriers” and add, in its place, “carrier.”

PART 387—MINIMUM LEVELS OF FINANCIAL RESPONSIBILITY FOR MOTOR CARRIERS

8. The authority citation for part 387 continues to read as follows:

Authority: 49 U.S.C. 13101, 13906, 14701, 31138, and 31139; 49 CFR 1.73.

§ 387.303 [Amended]

9. Amend § 387.303, paragraph (b)(2) table, column 1, in paragraph (d), by removing “10,000” and add, in its place, “10,001.”

§ 387.309 [Amended]

10. Amend § 387.309(a) by removing “B.M.C.” and add, in its place, “BMC.”

§ 387.311 [Amended]

11. Amend § 387.311(b) by removing “B.M.C.” wherever it appears and add, in its place, “BMC.”

PART 391—QUALIFICATIONS OF DRIVERS

12. The authority citation for part 391 continues to read as follows:

Authority: 49 U.S.C. 322, 504, 31133, 31136, and 31502; 49 CFR 1.73.

§ 391.43 [Amended]

13. Amend § 391.43 as follows:

a. Amend § 391.43(f) by removing “November 6, 2001” and add, in its place, “September 30, 2004.”

b. In the Instructions immediately following § 391.43(f), revise “Blood pressure (BP)” to read as follows:

Instructions for Performing and Recording Physical Examinations

* * * * *

Blood pressure (BP). If a driver has hypertension and/or is being medicated for hypertension, he or she should be recertified more frequently. An individual diagnosed with Stage 1 hypertension (BP is 140/90-159/99) may be certified for one year. At recertification, an individual with a BP equal to or less than 140/90 may be certified for one year; however, if his or her BP is greater than 140/90 but less than 160/100, a one-time certificate for 3 months can be issued. An individual diagnosed with Stage 2 (BP is 160/100-179/109) should be treated and a one-time certificate for 3-month certification can be issued. Once the driver has reduced his or her BP to equal to or less than 140/90, he or she may be recertified annually thereafter. An individual diagnosed with Stage 3 hypertension (BP equal to or greater than 180/110) should not be certified until his or her BP is reduced to 140/90 or less, and may be recertified every 6 months.

* * * * *

c. Revise the form entitled “Medical Examination Report for Commercial Driver Fitness Determination” to read as follows:

BILLING CODE 4910-EX-P

BILLING CODE 4910-EX-C

PART 393—PARTS AND ACCESSORIES NECESSARY FOR SAFE OPERATION

14. The authority citation for part 393 continues to read as follows:

Authority: 49 U.S.C. 322, 31136, and 31502; sec. 104(b) of Pub. L. 102-240, 105 Stat. 1914, 1993 (1991); 49 CFR 1.73.

§ 393.5 [Amended]

15. Amend § 393.5 in the definition of “g” by removing “9.823” and add, in its place, “9.81.”

§ 393.106 [Amended]

16. Amend § 393.106(a) by removing “§ 393.122 through § 393.142” and add, in its place, “§§ 393.116 through 393.136.”

PART 396—INSPECTION, REPAIR, AND MAINTENANCE

17. The authority citation for part 396 continues to read as follows:

Authority: 49 U.S.C. 31133, 31136, and 31502; 49 CFR 1.73.

§ 396.9 [Amended]

18. In § 396.9, paragraphs (b) and (c)(2), remove “Driver Equipment Compliance Check” and add, in its place, “Driver Vehicle Examination Report.”

Issued on: September 24, 2003.
Warren Hoemann,
Deputy Administrator.

[FR Doc. 03-24736 Filed 9-29-03; 8:45 am]

BILLING CODE 4910-EX-P